DEPARTMENT OF THE INTERIOR

Fish and Wildlife Service

[FWS-R4-ES-2023-N001; FXES11140400000-223-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act. We invite the public and local, State, Tribal, and Federal agencies to comment on these applications. Before issuing any of the requested permits, we will take into consideration any information that we receive during the public comment period.

DATES: We must receive written data or comments on the applications by March 27, 2023.

ADDRESSES:

Reviewing Documents: Submit requests for copies of applications and other information submitted with the applications to Karen Marlowe (see FOR FURTHER INFORMATION CONTACT). All requests and comments should specify the applicant name and application number (e.g., Mary Smith, ESPER0001234).

Submitting Comments: If you wish to comment, you may submit comments by one of the following methods:

• Email (preferred method): permitsR4ES@fws.gov. Please include your name and return address in your email message. If you do not receive a confirmation from the U.S. Fish and Wildlife Service that we have received your email message, contact us directly at the telephone number listed in FOR FURTHER INFORMATION CONTACT.

• U.S. Mail: U.S. Fish and Wildlife Service Regional Office, Ecological Services, 1875 Century Boulevard, Atlanta, GA 30345 (Attn: Karen Marlowe, Permit Coordinator).

FOR FURTHER INFORMATION CONTACT: Karen Marlowe, Permit Coordinator, 404-679-7097 (telephone) or karen_marlowe@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act of 1974, as amended (5 U.S.C. 552a) and the Freedom of Information Act (5 U.S.C. 552).

Background

With some exceptions, the ESA prohibits take of listed species unless a Federal permit is issued that authorizes such take. The ESA's definition of “take” includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies, and the public to submit written data, views, or arguments with respect to these applications. The comments and recommendations that will be most useful and likely to influence agency decisions are those supported by quantitative information or studies. Proposed activities in the following permit requests are for the recovery and enhancement of propagation or survival of the species in the wild.

Permit application No. | Applicant | Species | Location | Activity | Type of take | Permit action
ES56588D-2 | Martin Melville; Marietta, GA | Fishes: Cumberland darter (Etheostoma susanae); Mussels: clubshell (Pleurobema clava), cracking pearlymussel (Hemistena lata), Cumberland bean (Villosa trabalis), Cumberland elktoe (Alasmidonta atropurpurea), Cumberlandian combshell (Epioblasma brevidans), dromedary pearlymussel (Dromus dromas), fanshell (Cyprogenia stegaria), fat pocketbook (Potamilus capax), fluted kidneyshell (Ptychobranchus subtentus), littlewing pearlymussel (Pegias fabula), orangefoot pimpleback (Plethobasus cooperianus), oyster mussel (Epioblasma capsaeformis), pink mucket (Lampsilis abrupta), rayed bean (Villosa fabalis), ring pink (Obovaria retusa), rough pigtoe (Pleurobema plenum), rough rabbitsfoot (Quadrula cylindrica strigillata), sheepnose (Plethobasus cyphyus), slabside pearlymussel (Pleuronaia dolabelloides), snuffbox (Epioblasma triquetra), spectaclecase (Cumberlandia monodonta), tan riffleshell (Epioblasma florentina walkeri [= E. walkeri]), and winged mapleleaf (Quadrula fragosa) | Kentucky | Presence probable/absence surveys | Capture, handle, identify, and release | Amendment.
ES079863-4 | Michael Gangloff; Boone, NC | Canoe Creek clubshell (Pleurobema athearni), fluted kidneyshell (Ptychobranchus subtentus), Georgia pigtoe (Pleurobema hanleyianum), rayed bean (Villosa fabalis), and spectaclecase (Cumberlandia monodonta) | Alabama, Georgia, Kentucky, Tennessee, and Virginia | Presence/probable absence surveys | Capture, identify, tag, collect buccal swabs, release, and salvage relic shells | Renewal and amendment.
ES31057A-3 | North Carolina Wildlife Resources Commission; Raleigh, NC | Fishes: Cape Fear shiner (Notropis mekistocholas), Carolina madtom (Noturus furiosus), and Roanoke logperch (Percina rex); Mussels: Appalachian elktoe (Alasmidonta raveneliana), Carolina heelsplitter (Lasmigona decorata), dwarf wedgemussel (Alasmidonta heterodon), James spinymussel (Parvaspina collina), littlewing pearlymussel (Pegias fabula), and Tar River spinymussel (Parvaspina steinstansana) | North Carolina and South Carolina | Scientific research, captive propagation, and relocation and reintroduction activities | Collect, transport, hold in captivity for longer than 45 days, release, translocate, and euthanize | Renewal and amendment.
ES069280-6 | Alabama Department of Transportation; Montgomery, AL | Mammals: Alabama beach mouse (Peromyscus polionotus ammobates); Reptiles: eastern indigo snake (Drymarchon couperi), flattened musk turtle (Sternotherus depressus), and gopher tortoise (Gopherus polyphemus); Amphibians: Red Hills salamander (Phaeognathus hubrichti) | Alabama | Presence/probable absence surveys | Mammals, flattened musk turtle, and amphibians: Capture, handle, and release; and eastern indigo snake and gopher tortoise: scope burrows | Renewal.

Public Availability of Comments

Written comments we receive become part of the administrative record associated with this action. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

If we decide to issue a permit to an applicant listed in this notice, we will publish a notice in the Federal Register.

Authority

We publish this notice under section 10(c) of the Endangered Species Act of 1973, as amended (16 U.S.C. 1531 et seq.).

John Tirpak,
Deputy Assistant Regional Director, Ecological Services, Southeast Region.

[FR Doc. 2023-03893 Filed 2-23-23; 8:45 am]

BILLING CODE 4333-15-P